NATIONAL SCIENCE FOUNDATION

Committee Management Renewals

The NSF management officials having responsibility for three advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Environmental Research and Education, #9487.

Proposal Review Panel for Industrial Innovations and Partnerships, #28164.

Proposal Review Panel for Emerging Frontiers in Research and Innovation, #34558.

Effective date for renewal is March 1, 2010. For more information, please contact Susanne Bolton, NSF, at (703) 292-7488.

Susanne Bolton,
Committee Management Officer.

[FR Doc. 2010-4233 Filed 3-2-10; 8:45 am]

BILLING CODE 7555-01-P